DEPARTMENT OF TRANSPORTATION

Federal Aviation Administration

14 CFR Part 25

[Docket No.: FAA-2022-1544; Notice No. 23-04]

RIN 2120-AJ99

System Safety Assessments

AGENCY: Federal Aviation Administration (FAA), DOT.

ACTION: Notice of proposed rulemaking (NPRM); extension of comment period.

SUMMARY: This action extends the comment period for the NPRM titled “System Safety Assessments,” that was published on December 8, 2022. In that document, the FAA proposed to amend certain airworthiness regulations to standardize the criteria for conducting safety assessments for systems, including flight controls and powerplants, installed on transport category airplanes. With this action, the FAA seeks to reduce risk associated with airplane accidents and incidents that have occurred in service, and reduce risk associated with new technology in flight control systems. The intended effect of this proposed action is to improve aviation safety by making system safety assessment (SSA) certification requirements more comprehensive and consistent. The FAA is extending the comment period closing date to allow commenters additional time to analyze the proposed rule and prepare a response.

DATES: The comment period for the NPRM published on December 8, 2022, at 87 FR 75424, and scheduled to close on March 8, 2023, is extended until April 24, 2023.

ADDRESSES: Send comments identified by docket number FAA-2022-1544 using any of the following methods:

• Federal eRulemaking Portal: Go to www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to www.regulations.gov, as described in the system of records notice (DOT/ALL-14 FDMS), which you can review at www.dot.gov/privacy.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: For technical questions concerning this action, contact Suzanne Masterson, Strategic Policy Transport Section, AIR-614, Strategic Policy Management Branch, Policy and Innovation Division, Aircraft Certification Service, Federal Aviation Administration, 2200 South 216th Street, Des Moines, WA 98198; telephone and fax (206) 231-3211; email Suzanne.Masterson@faa.gov.

SUPPLEMENTARY INFORMATION:

A. Comments Invited

The FAA invites interested persons to participate in this rulemaking by submitting written comments, data, or views. The agency also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The agency may change this proposal in light of the comments it receives.

B. Availability of Rulemaking Documents

An electronic copy of rulemaking documents may be obtained from the internet by—

1. Searching the Federal eRulemaking Portal at www.regulations.gov;

2. Visiting the FAA's Regulations and Policies web page at www.faa.gov/regulations_policies/; or

3. Accessing the Government Printing Office's web page at www.GovInfo.com.

Copies may also be obtained by sending a request to the Federal Aviation Administration, Office of Rulemaking, ARM-1, 800 Independence Avenue SW, Washington, DC 20591, or by calling (202) 267-9677. Commenters must identify the docket or notice number of this rulemaking.

All documents the FAA considered in developing this proposed rule, including economic analyses and technical reports, may be accessed from the internet through the Federal eRulemaking Portal referenced in item (1) above.

Background

On December 8, 2023, the FAA published an NPRM titled “System Safety Assessments,” in the Federal Register (87 FR 75424; Notice No. 23-04). In the NPRM, the FAA proposed to amend certain airworthiness regulations to standardize the criteria for conducting safety assessments for systems, including flight controls and powerplants, installed on transport category airplanes. With this action, the FAA seeks to reduce risk associated with airplane accidents and incidents that have occurred in service, and reduce risk associated with new technology in flight control systems. The intended effect of this proposed action is to improve aviation safety by making system safety assessment (SSA) certification requirements more comprehensive and consistent. Commenters were instructed to provide comments on or before March 8, 2023 (i.e., 90 days from the date of publication of the NPRM).

Since publication, the FAA has received several requests to extend the comment period by an additional ninety (90) days. The commenters generally requested more time to review the proposed rule and associated guidance documents, and to develop comments and recommendations.

Extension of Comment Period

The FAA partially grants the petitioners' requests for an extension of the comment period. The FAA recognizes the complex and technical nature of the proposed rule, and finds that an extension would help commenters craft complete and helpful responses. However, under the circumstances, the FAA finds that an additional forty-five (45) days will provide sufficient opportunity for the public to comment. Therefore, the comment period for Notice No. 23-04 is extended until April 24, 2023.

The FAA does not plan to grant any additional requests to further extend the comment period for this rulemaking.

Issued under authority provided by 49 U.S.C. 106(f), 44701(a), and 44703 in Washington, DC, on February 24, 2023.
Brandon Roberts,
Executive Director, Office of Rulemaking, Federal Aviation Administration.

[FR Doc. 2023-04265 Filed 3-1-23; 8:45 am]

BILLING CODE 4910-13-P